DEPARTMENT OF THE INTERIOR

Bureau of Indian Affairs

[190A2100DD/AAKC001030/A0A501010.999900253G]

Indian Gaming; Approval of Tribal-State Class III Gaming Compact Amendment in the State of South Dakota

AGENCY: Bureau of Indian Affairs, Interior.

ACTION: Notice.

SUMMARY: This notice publishes the approval of the Amended Gaming Compact between the Sisseton-Wahpeton Oyate of the Lake Traverse Reservation (Tribe) and the State of South Dakota (Amendment).

DATES: The compact amendment takes effect on April 1, 2019.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment increases the number of slot machines the Tribe may operate, decreases certain regulatory costs for emergency services agreements, and eliminates tribal contributions paid from pari-mutuel gaming to schools. The Amendment is approved.

Dated: March 13, 2019.
John Tahsuda,
Principal Deputy Assistant Secretary, Indian Affairs.

[FR Doc. 2019-06296 Filed 3-29-19; 8:45 am]

BILLING CODE 4337-15-P